DEPARTMENT OF LABOR

Occupational Safety and Health Administration

[Docket No. ICR 1218-0209 2002]

Proposed Information Collection Request Submitted for Public Comment and Recommendations; OSHA Data Initiative (1218-0209)

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Occupational Safety and Health Administration (OSHA) is soliciting comments concerning the proposed extension of the information collection request for the OSHA Data Initiative. A copy of the proposed information collection request (ICR) can be obtained by contacting the office listed below in the addresses section of this notice.

DATES: Written comments must be submitted to the office listed in the addressee section below on or before October 28, 2002.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

ADDRESSES: Comments are to be submitted to the Docket Office, Docket No. ICR 1218-0209 2002, U.S. Department of Labor, Room N-2625, 200 Constitution Ave., NW., Washington, DC 20210, telephone (202) 693-2350. Written comments limited to 10 pages or less in length may be transmitted by facsimile to (202) 693-1648.

FOR FURTHER INFORMATION: Dave Schmidt, Directorate of Information Technology, Office of Statistics, Occupational Safety and Health Administration, U.S. Department of Labor, Room N3644, 200 Constitution Avenue, NW., Washington, DC 20210, telephone: (202) 693-1886. Copies of the referenced information collection request are available for inspection and copying in the Docket Office and will be mailed to persons who request copies by telephoning Dave Schmidt at (202) 693-1886 or Todd Owen at (202) 693-2444. For electronic copies of the OSHA Data Initiative information collection request, contact OSHA's Web page on the Internet at http://www.osha-slc.gov/OCIS/Info_coll.html.

SUPPLEMENTARY INFORMATION:

I. Background

To meet many of OSHA's program needs, OSHA is proposing to continue its data initiative to collect occupational injury and illness data and information on the number of workers employed and the number of hours worked from establishments in portions of the private sector and from some state and local government agencies. OSHA will collect calendar year 2002 data from up to 109,000 employers already required to create and maintain records pursuant to 29 CFR part 1904. These data will allow OSHA to calculate occupational injury and illness rates and to focus its efforts on individual workplaces with ongoing serious safety and health problems. Successful implementation of the data collection initiative is critical to OSHA's outreach and enforcement efforts and the data requirements tied to the Government Performance and Results Act (GPRA).

II. Current Actions

This notice requests public comment on an extension of the current OMB approval of the paperwork requirements for the OSHA Data Initiative system.

Type of Review: Extension of currently approved collection.

Agency: Occupational Safety and Health Administration.

Title: OSHA Data Initiative.

OMB Number: 1218-0209.

Agency Number: ICR 1218-0209-2002.

Affected Public: Business or other for-profit, Farms, and State, Local or Tribal Government.

Cite/Reference/Form/etc: OSHA Form 196A and OSHA Form 196B.

Total Respondents: 109,000.

Frequency: Annually.

Average Time per Response: 10 minutes.

Estimated Total Burden Hours: 17,440 hours.

Comments submitted in response to this comment request will be summarized and/or included in the request for Office of Management and Budget approval of the information collection request; they will also become a matter of public record.

Dated: August 16, 2002.
John L. Henshaw,
Assistant Secretary.

[FR Doc. 02-21758 Filed 8-26-02; 8:45 am]

BILLING CODE 4510-26-M